DEPARTMENT OF ENERGY

U.S.-China Clean Energy Research Center (CERC)

AGENCY: Department of Energy.

ACTION: Notice of intent to issue Funding Opportunity Announcement and availability of Request for Information (RFI).

SUMMARY: The U.S. Department of Energy (DOE) intends to issue a Funding Opportunity Announcement (FOA) in early January 2010 for management of parts of the U.S.-China Clean Energy Research Center (CERC).

FOR FURTHER INFORMATION CONTACT: For further information or to obtain a copy of this Request for Information (RFI), please contact DOE at CERC@hq.doe.gov or call 202-586-5800. The RFI is also available on DOE's Web site at http://www.energy.gov.

SUPPLEMENTARY INFORMATION: This week, the U.S. Department of Energy (DOE), China's Ministry of Science and Technology, and China's National Energy Administration are signing the Protocol formally establishing the U.S.-China Clean Energy Research Center (CERC). Today, the DOE is issuing a RFI to solicit comments on a possible approach to implementing U.S. activities under CERC. After reviewing responses to this RFI, the U.S. DOE intends to issue a FOA in January 2010 for management of parts of the U.S.-China Clean Energy Research Center (CERC).

Dated: November 10, 2009.
Kristina Johnson,
Assistant Secretary, Department of Energy.
David Sandalow,
Under Secretary, Department of Energy.

[FR Doc. E9-27572 Filed 11-16-09; 8:45 am]

BILLING CODE 6450-01-P